NUCLEAR REGULATORY COMMISSION

[Docket Nos. 50-390; NRC-2015-0170]

Watts Bar Nuclear Plant, Unit No. 1; Application and Amendment to Facility Operating License Involving Proposed No Significant Hazards Consideration Determination

AGENCY: Nuclear Regulatory Commission.

ACTION: License amendment request; opportunity to comment, request a hearing and petition for leave to intervene.

SUMMARY: The U.S. Nuclear Regulatory Commission (NRC) is considering issuance of an amendment to Facility Operating License No. NFP-90, issued to the Tennessee Valley Authority (the licensee), for operation of the Watts Bar Nuclear Plant (WBN), Unit No. 1. The proposed amendment would modify the technical specifications (TSs) to define support systems needed in the first 48 hours after a unit shutdown when steam generators are not available for heat removal. The proposed amendment would also make changes consistent with Technical Specification Task Force (TSTF) Traveler TSTF-273-A, Revision 2, to provide clarifications related to the requirements of the Safety Function Determination Program (SFDP). The proposed license amendment was submitted by letter dated June 17, 2015, and was supplemented by letters dated July 14, August 28, and September 3, 2015. The NRC staff previously made a proposed determination that the amendment involves no significant hazards consideration. By letter dated September 3, 2015, the licensee provided additional information that expanded the scope of the amendment request as originally noticed. The September 3, 2015, supplement proposed new modifications to TS 3.3.2 and TS 3.4.6. This notice supersedes the previous notice in its entirety to update the description of the amendment request and the no significant hazards determination.

DATES: Submit comments by October 15, 2015. A request for a hearing or petition for leave to intervene must be filed by November 16, 2015.

ADDRESSES: You may submit comments by any of the following methods (unless this document describes a different method for submitting comments on a specific subject):

• Federal Rulemaking Web site: Go to http://www.regulations.gov and search for Docket ID NRC-2015-0170. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Jeanne A. Dion, Office of Nuclear Reactor Regulation, U.S. Nuclear Regulatory Commission, Washington, DC 20555-0001; telephone: 301-415-1349; email: Jeanne.Dion@nrc.gov.

SUPPLEMENTARY INFORMATION:

I. Obtaining Information and Submitting Comments

A. Obtaining Information

Please refer to Docket ID NRC-2015-0170 when contacting the NRC about the availability of information for this action. You may obtain publicly-available information related to this action by any of the following methods:

• Federal rulemaking Web site: Go to http://www.regulations.gov and search for Docket ID NRC-2015-0170.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The application for amendment, dated June 17, 2015, and supplemented by letters dated July 14, August 28, and September 3, 2015, are available in ADAMS under ADAMS Accession Nos. ML15170A474, ML15197A357, ML15243A044, and ML15246A638.

• NRC's PDR: You may examine and purchase copies of public documents at the NRC's PDR, Room O1-F21, One White Flint North, 11555 Rockville Pike, Rockville, Maryland 20852.

B. Submitting Comments

Please include Docket ID NRC-2015-0170 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering issuance of an amendment to Facility Operating License No. NFP-90, issued to the Tennessee Valley Authority, for operation of the WBN, Unit No. 1, located in Spring City, Tennessee.

The proposed amendment, initially submitted by letter dated June 17, 2015, would modify the TSs to define support systems needed in the first 48 hours after a unit shutdown when steam generators are not available for heat removal. The proposed change is required to support dual unit operation of WBN (a licensing decision for WBN, Unit No. 2, is currently expected to be made in the fall of 2015). The proposed amendment would also make changes consistent with TSTF-273-A, Revision 2, to provide clarifications related to the requirements of the SFDP. The proposed license amendment was supplemented by letters dated July 14, August 28, and September 3, 2015. The supplement dated September 3, 2015, proposed changes to TSs 3.3.2 and 3.4.6), beyond those that had been included in the June 17, 2015, letter. The NRC staff previously made a proposed determination that the amendment request dated June 17, 2015, involves no significant hazards consideration (80 FR 42554; July 17, 2015). This notice supersedes the previous notice in its entirety to update the description of the amendment request and the no significant hazards consideration.

Before issuance of the proposed license amendment, the Commission will have made findings required by the Atomic Energy Act of 1954, as amended (the Act), and the Commission's regulations.

The NRC has made a proposed determination that the amendment request involves no significant hazards consideration. Under the NRC's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Does the proposed change involve a significant increase in the probability or consequences of an accident previously evaluated?

Response: No.

The likelihood of a malfunction of any systems, structures or components (SSCs) supported by containment cooling system (CCS) and essential raw cooling water (ERCW) is not significantly increased by adding new technical specification (TS) for ERCW and CCS that require alternate CCS and ERCW system alignments during the first 48 hours after shut down of a unit when the steam generators are not available for heat removal. CCS and ERCW provide the means for transferring residual and decay heat to the Residual Heat Removal (RHR) System for process and operating heat from safety related components during a transient or accident, as well as during normal operation. Although the proposed change includes a design change to allow two ERCW pumps to be powered from one diesel generator (DG), the additional ERCW pump is only aligned to the DG on a non-accident unit during a design basis event on the other unit, and does not result in overloading the DG due to the reduced loading on the non-accident DG. The CCS and ERCW are not initiators of any analyzed accident. All equipment supported by CCS and ERCW has been evaluated to demonstrate that their performance and operation remains as described in the FSAR [Final Safety Analysis Report] with no increase in probability of failure or malfunction.

The SSCs credited to mitigate the consequences of postulated design basis accidents remain capable of performing their design basis function. The change in CCS and ERCW system alignments has been evaluated to ensure the RHR System remains capable of removing normal operating and post-accident heat. Additionally, all the CCS and ERCW supported equipment, credited in the accident analysis to mitigate an accident, has been shown to continue to perform their design function as described in the FSAR.

Therefore, the proposed change does not involve a significant increase in the probability or consequences of an accident previously evaluated.

The proposed TS changes add explanatory text to the programmatic description of the Safety Function Determination Program (SFDP) in TS 5.7.2.18 to clarify the requirements that consideration does not have to be made for a loss of power in determining loss of function. The Bases for LCO [Limiting Condition for Operation] 3.0.6 is revised to provide clarification of the “appropriate LCO for loss of function,” and that consideration does not have to be made for a loss of power in determining loss of function. The changes are editorial and administrative in nature, and therefore do not increase the probability of any accident previously evaluated. No physical or operational changes are made to the plant. The proposed changes do not change how the plant would mitigate an accident previously evaluated.

Therefore, the proposed change does not involve a significant increase in the probability or consequences of an accident previously evaluated.

The proposed change to require the Reactor Coolant System (RCS) loops to be operable for the initial seven hours after shutdown and for the automatic switching of the auxiliary feedwater (AFW) pumps suction from the condensate storage tank (CST) to the and essential raw cooling water (ERCW) System to be operable in Mode 4 when relying on steam generators for heat removal does not increase the probability or consequences of an accident that has been previously evaluated at WBN. The RCS loops are currently required to be operable to remove decay heat until plant conditions allow the Residual Heat Removal (RHR) System to be placed in service. Specifying that the RCS loops are required to be operable for the initial seven hours after shutdown is consistent with the heat load assumptions at the specified time after shutdown described in the Updated Final Safety Analysis Report (UFSAR). The suction piping to the AFW pumps from either the CST or ERCW is not an initiator of any analyzed accident. The equipment supported by AFW and ERCW as described in the UFSAR has not been changed.

The systems, structures or components (SSCs) credited to mitigate the consequences of postulated design basis accidents remain capable of performing their design basis function. The change requiring the RCS loops to be operable for the initial seven hours after shutdown does not affect heat removal capability. It ensures the RHR System is not solely relied on for decay heat removal before the decay heat load is within the capability of the RHR System. The change requiring the pressure switches in the AFW pump suction piping to remain in service in Mode 4 when steam generators are relied on to remove heat from the RCS does not affect heat removal capability. It retains the same automatic action required by the instruments in Modes 1, 2, and 3, consistent with the TS Applicability requirements for the AFW System.

Therefore, the proposed change does not involve a significant increase in the probability or consequences of an accident previously evaluated.

2. Does the proposed change create the possibility of a new or different kind of accident from any accident previously evaluated?

Response: No.

The proposed change does not create the possibility of a new or different kind of accident from any accident previously evaluated. The proposed change does not introduce any new modes of plant operation, change the design function of any SSC, or change the mode of operation of any SSC. There are no new equipment failure modes or malfunctions created as the affected SSCs continue to operate in the same manner as previously evaluated and have been evaluated to perform their safety functions when in the alternate alignments as assumed in the accident analysis. Additionally, accident initiators remain as described in the FSAR and no new accident initiators are postulated as a result of the alternate CCS and ERCW alignments.

Therefore, the proposed change does not create the possibility of a new or different kind of accident from any accident previously evaluated.

The proposed changes [to TS 5.7.2.18] are editorial and administrative in nature and do not result in a change in the manner in which the plant operates. The loss of function of any specific component will continue to be addressed in its specific TS LCO, and plant configuration will be governed by the required actions of those LCOs. The proposed changes are clarifications that do not degrade the availability or capability of safety related equipment, and therefore do not create the possibility of a new or different kind of accident from any accident previously evaluated. There are no design changes associated with the proposed changes, and the changes do not involve a physical alteration of the plant (i.e., no new or different type of equipment will be installed). The changes do not alter assumptions made in the safety analysis, and are consistent with the safety analysis assumptions and current plant operating practice. Due to the administrative nature of the changes, they cannot be an accident initiator.

Therefore, the proposed changes do not create the possibility of a new or different kind of accident from any accident previously evaluated.

The proposed change does not create the possibility of a new or different kind of accident from any accident previously evaluated. The proposed change does not introduce any new modes of plant operation, change the design function of any SSC, or change the mode of operation of any SSC. There are no new equipment failure modes or malfunctions created as the affected SSCs continue to operate in the same manner as previously evaluated. Additionally, accident initiators remain as described in the UFSAR and no new accident initiators are postulated as a result of requiring the RCS loops to be operable for a specified duration after plant shutdown or by extending the Mode of Applicability of the AFW pump suction swap over from the CST to ERCW.

Therefore, the proposed change does not create the possibility of a new or different kind of accident from any previously evaluated.

3. Does the proposed change involve a significant reduction in a margin of safety?

Response: No.

The proposed change continues to ensure that the cooling capability of RHR during normal operation and during the mitigation of a design basis event remains within the evaluated equipment limits and capabilities assumed in the accident analysis. The proposed change does not result in any changes to plant equipment functions, including setpoints and actuations. The proposed change does not alter existing limiting conditions for operation, limiting safety system settings, or safety limits specified in the Technical Specifications. The proposed change to add a new TS for ERCW and CCS assures the ability of these systems to support post-accident residual heat removal.

Therefore, since there is no adverse impact of this change on the Watts Bar Nuclear Plant safety analysis, there is no significant reduction in the margin of safety of the plant.

The proposed changes to TS 5.7.2.18 are clarifications and are editorial and administrative in nature. No changes are made to the LCOs for plant equipment, the time required for the TS Required Actions to be completed, or the out of service time for the components involved. The proposed changes do not affect the safety analysis acceptance criteria for any analyzed event, nor is there a change to any safety analysis limit. The proposed changes do not alter the manner in which safety limits, limiting safety system settings or limiting conditions for operation are determined, nor is there any adverse effect on those plant systems necessary to assure the accomplishment of protection functions. The proposed changes will not result in plant operation in a configuration outside the design basis.

Therefore, the proposed changes do not involve a significant reduction in a margin of safety.

The proposed change does not result in any changes to plant equipment functions, including setpoints and actuations. The proposed change does not alter limiting safety system settings or safety limits specified in the TS for these instruments. The proposed change ensures the decay heat load of the plant is within the capability of the RHR System prior to allowing sole use of the RHR loops for decay heat removal. In addition, the proposed change ensures the same automatic action to align ERCW as a supply source to AFW that occurs in Modes 1, 2, and 3 will remain available in Mode 4 when relying on the steam generators for decay heat removal. Thus, the proposed change does not reduce the margin of safety.

Therefore, since there is no adverse impact of this change on the safety analysis, there is no significant reduction in the margin of safety of the plant.

The NRC staff has reviewed the licensee's analysis and, based on this review, it appears that the three standards of 10 CFR 50.92(c) are satisfied. Therefore, the NRC staff proposes to determine that the amendment request involves no significant hazards consideration.

The NRC is seeking public comments on this proposed determination that the license amendment request involves no significant hazards consideration. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

III. Opportunity To Request a Hearing and Petition for Leave To Intervene

Within 60 days after the date of publication of this Federal Register notice, any person whose interest may be affected by this proceeding and who desires to participate as a party in the proceeding must file a written request for hearing or a petition for leave to intervene specifying the contentions which the person seeks to have litigated in the hearing with respect to the license amendment request. Requests for hearing and petitions for leave to intervene shall be filed in accordance with the NRC's “Agency Rules of Practice and Procedure” in 10 CFR part 2. Interested person(s) should consult a current copy of 10 CFR 2.309, which is available at the NRC's PDR. The NRC's regulations are accessible electronically from the NRC Library on the NRC's Web site at http://www.nrc.gov/reading-rm/doc-collections/cfr/.

As required by 10 CFR 2.309, a request for hearing or petition for leave to intervene must set forth with particularity the interest of the petitioner in the proceeding and how that interest may be affected by the results of the proceeding. The hearing request or petition must specifically explain the reasons why intervention should be permitted, with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The hearing request or petition must also include the specific contentions that the requestor/petitioner seeks to have litigated at the proceeding. For each contention, the requestor/petitioner must provide a specific statement of the issue of law or fact to be raised or controverted, as well as a brief explanation of the basis for the contention. Additionally, the requestor/petitioner must demonstrate that the issue raised by each contention is within the scope of the proceeding and is material to the findings that the NRC must make to support the granting of a license amendment in response to the application. The hearing request or petition must also include a concise statement of the alleged facts or expert opinion that support the contention and on which the requestor/petitioner intends to rely at the hearing, together with references to those specific sources and documents. The hearing request or petition must provide sufficient information to show that a genuine dispute exists with the applicant on a material issue of law or fact, including references to specific portions of the application for amendment that the petitioner disputes and the supporting reasons for each dispute. If the requestor/petitioner believes that the application for amendment fails to contain information on a relevant matter as required by law, the requestor/petitioner must identify each failure and the supporting reasons for the requestor's/petitioner's belief. Each contention must be one which, if proven, would entitle the requestor/petitioner to relief. A requestor/petitioner who does not satisfy these requirements for at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC regulations, policies, and procedures. The Atomic Safety and Licensing Board will set the time and place for any prehearing conferences and evidentiary hearings, and the appropriate notices will be provided.

Hearing requests or petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

IV. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the NRC's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call to 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) first class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this action, see the application for amendment, dated June 17, 2015, and supplemented by letters dated July 14, August 28, and September 3, 2015, in ADAMS under ADAMS Accession Nos. ML15170A474, ML15197A357, ML15243A044, and ML15246A638.

Attorney for licensee: General Counsel, Tennessee Valley Authority, 400 West Summit Hill Drive, 6A West Tower, Knoxville, Tennessee 37902.

NRC Branch Chief: Jessie F. Quichocho.

Dated at Rockville, Maryland, this 8th day of September 2015.
For the Nuclear Regulatory Commission.
Jeanne A. Dion,
Project Manager, Watts Bar Special Projects Branch, Division of Operating Reactor Licensing, Office of Nuclear Reactor Regulation.

[FR Doc. 2015-23085 Filed 9-14-15; 8:45 am]

BILLING CODE 7590-01-P